DEPARTMENT OF JUSTICE

Notice of Public Meeting for the Draft Environmental Impact Statement for Proposed United States Penitentiary and Federal Prison Camp in Letcher County, Kentucky

AGENCY: Federal Bureau of Prisons, U.S. Department of Justice.

ACTION: Notice of public meeting.

SUMMARY: The U.S. Department of Justice, Federal Bureau of Prisons (Bureau) is announcing a public meeting for the Draft Environmental Impact Statement (EIS) for the Proposed United States Penitentiary (USP) and Federal Prison Camp (FPC) in Letcher County, Kentucky. A 45-day public comment period on the Draft EIS was initiated with the publication of the Notice of Availability (NOA) of the Draft EIS in the Federal Register on February 13, 2015. The 45-day public comment period is from February 13, 2015 through March 30, 2015.

This notice announces the date, time, and location of the public meeting for the Draft EIS and provides supplementary information about the environmental planning effort.

Dates and Addresses: A public meeting will be held on March 12, 2015 between 5:30 p.m. and 8:00 p.m. at the Letcher County Central High School located at 435 Cougar Drive, Whitesburg, Kentucky. Bureau representatives will be available at poster stations during the public meeting to clarify information related to the Draft EIS.

Federal, state, and local agencies and officials, and interested groups and individuals are encouraged to provide comments in person at the public meeting or in writing anytime during the public comment period. At the public meeting, attendees will be able to submit comments in writing and orally to a stenographer who will transcribe comments. All comments received during the public comment period will be given equal consideration. Comments may also be submitted to Mr. Thomas A. Webber, Chief, Capacity Planning and Construction Branch, Federal Bureau of Prisons, 320 First Street, NW., Washington, DC 20534 (Telephone: (202) 514-6470, Fax: (202) 616-6024, or Email: txwebber@bop.gov). All statements, both written and oral, submitted during the public comment period will become part of the public record on the Draft EIS and will be responded to in the Final EIS. All written comments must be postmarked by March 30, 2015 to ensure they become part of the official record.

SUPPLEMENTARY INFORMATION: The proposed action being evaluated in this Draft EIS is the acquisition of property and the construction and operation of a federal correctional facility in Letcher County, Kentucky. The Bureau proposes to acquire approximately 800 acres to construct a USP (approximately 61,654 square meters) and FPC (approximately 6,063 square meters) in Letcher County. Inmates housed in the USP would be high-security male inmates and those housed in the FPC would be minimum-security male inmates. The proposed facilities would house approximately 1,216 total inmates (approximately 1,088 within the USP and 128 within the FPC). In addition to the USP and FPC, several ancillary facilities necessary for the operation of the USP and FPC would be constructed. A non-lethal/lethal fence would also be installed along the perimeter of the USP. The non-lethal/lethal fence would be placed between two parallel, chain link and razor wire fences.

The official scoping period for this project began when the Bureau published a Notice of Intent in the Federal Register to prepare an EIS on July, 26, 2013. The Bureau held a 30-day public scoping period between July 26 and August 26, 2013. A public scoping meeting was held on August 13, 2013 to inform the public about the proposed project and to explain the National Environmental Policy Act (NEPA) and the associated environmental impact analysis.

Three alternatives were analyzed in this Draft EIS, the No Action Alternative and two build alternatives: Alternative 1—Payne Gap and Alternative 2—Roxana.

No Action Alternative

Under the No Action Alternative, the Bureau would not acquire property or construct and operate a new USP or FPC. Existing USPs would remain overcrowded and prevent the Bureau from meeting its mission. The No Action Alternative does not meet the project purpose and need and is therefore, not considered a viable alternative. However, the No Action Alternative is analyzed in the Draft EIS because it serves as a baseline for comparing the proposed action. The purpose for this comparison is to allow the federal agency to assess the effects of taking no action versus implementing the proposed action. In some cases the no action alternative would result in impacts to certain resources if the proposed action is not implemented. Therefore, the assessment of the no action alternative is an important component of all NEPA documents.

Alternative 1—Payne Gap

Under Alternative 1, the Bureau would acquire approximately 753 acres of land known as the Payne Gap site. The site is located in eastern Letcher County, approximately 7 miles northeast of Whitesburg, along the Kentucky and Virginia border. The Bureau would then construct and operate a USP and FPC on this site.

Alternative 1 would require extensive earthwork to prepare the site for development. Approximately 10,912,130 cubic yards (yd³) of excavation and 13,823,012 yd³ of fill would be required prior to beginning construction activities. The Bureau would require a minimum of 300 acres for construction of the USP and FPC at this site.

Alternative 2—Roxana

Under Alternative 2, the Bureau would acquire approximately 700 acres of land known as the Roxana site. The site is located 7.5 miles west of Whitesburg, Kentucky. The Bureau would construct and operate a USP and FPC on this site.

Alternative 2 would also require extensive earthwork to prepare the site for development. Approximately 3,831,749 yd³ of material would need to be excavated from the site and approximately 4,293,001 yd³ of fill would be required to prepare the site for construction activities. The Bureau would require a minimum of 300 acres for construction of the USP and FPC at this site.

Alternative 1 and Alternative 2 would both have significant impacts to geology, topography, and soils, as well as infrastructure and utilities, and traffic and transportation. Implementation of the proposed action under either alternative would also have the potential to impact threatened and endangered species, including the gray bat (Myotis grisescens) and Indiana bat (Myotis sodalist). Studies are ongoing to determine detailed impacts to winter and summer habitat. Coordination with the U.S. Fish and Wildlife Service is ongoing.

Dated: February 5, 2015.
Thomas A. Webber,
Chief, Capacity Planning and Construction Branch.

[FR Doc. 2015-02663 Filed 2-9-15; 8:45 am]

BILLING CODE P